DEPARTMENT OF COMMERCE

International Trade Administration

[A-570-937]

Citric Acid and Certain Citrate Salts From the People's Republic of China; Final Results of Antidumping Duty Administrative Review; 2011-2012

AGENCY: Enforcement and Compliance, formerly Import Administration, International Trade Administration, Department of Commerce.

SUMMARY: The Department of Commerce (“the Department”) published its Preliminary Results of the administrative review of the antidumping duty order on citric acid and certain citrate salts from the People's Republic of China (“PRC”) on June 10, 2013.¹ The period of review (“POR”) is May 1, 2011, through April 30, 2012. We gave interested parties an opportunity to comment on the Preliminary Results. Based upon our analysis of the comments received, we have made no changes to the margin calculations for these final results. We continue to find that the respondent, RZBC Imp. & Exp. Co., Ltd. (“RZBC I&E”) ² has not sold subject merchandise at less than normal value (“NV”), and that Yixing Union Biochemical Ltd. (“Yixing Union”) had no shipments of subject merchandise during the POR. The final dumping margins are listed below in the “Final Results of the Review” section of this notice.

¹ See Citric Acid and Certain Citrate Salts From the People's Republic of China: Preliminary Results of the Antidumping Duty Administrative Review; 2011-2012, 78 FR 34642 (June 10, 2013) (“Preliminary Results”).

² The Department initiated the third administrative review on RZBC Co., Ltd. (“RZBC Co.”), RZBC I&E, and RZBC (Juxian) Co., Ltd. (collectively “RZBC”). Only RZBC I&E exported subject merchandise to the United States during the POR.

DATES: Effective Date: January 2, 2014.

FOR FURTHER INFORMATION CONTACT: Maisha Cryor or Krisha Hill, AD/CVD Operations, Office IV, Enforcement and Compliance, International Trade Administration, U.S. Department of Commerce, 14th Street and Constitution Avenue NW., Washington, DC 20230; telephone: (202) 482-5831 or (202) 482-4037, respectively.

SUPPLEMENTARY INFORMATION:

Background

On June 10, 2013, the Department published the Preliminary Results of this administrative review.³ The Department conducted a verification of RZBC between September 9 and September 13, 2013.⁴ The Department extended the deadline for submission of case briefs until one week after the verification report release date and the deadline for rebuttal briefs until five days after the submission of case briefs.⁵ On July 10, 2013, RZBC and Petitioners submitted hearing requests to address issues raised in their case and rebuttal case briefs. Petitioners and RZBC withdrew their hearing requests on November 18, 2013, and November 21, 2013, respectively. On November 7, 2013, RZBC submitted a case brief.⁶ On November 12, 2013, Petitioners submitted a rebuttal brief.⁷

³ See id.

⁴ See Memorandum to the File, from Edward Yang, Director, Office 9, Taija Slaughter, Program Manager, Office of Accounting, and Krisha Hill, International Trade Compliance Analyst, Office 4, “Verification Report of the Sales and Factors Responses of RZBC Co., Ltd., RZBC Import & Export Co., Ltd., and RZBC (Juxian) Co., Ltd. in the Antidumping Duty Administrative Review of Citric Acid and Certain Citrate Salts from the People's Republic of China” (October 30, 2013).

⁵ See Memorandum To The File, “Schedule for submission of Briefs and Rebuttal Briefs: Citric Acid and Certain Citrate Salts from the People's Republic of China” (October 31, 2013).

⁶ See RZBC's “Citric Acid and Citrate Salt from the People's Republic of China: RZBC Case Brief,” (November 7, 2013).

⁷ See Petitioners' “Citric Acid and Certain Citrate Salts From the People's Republic of China: Petitioners' Rebuttal Brief,” (November 12, 2013).

On August 6, 2013, the Department extended the deadline in this proceeding by 60 days.⁸ As explained in the memorandum from the Assistant Secretary for Enforcement and Compliance, the Department has exercised its discretion to toll deadlines for the duration of the closure of the Federal Government from October 1, 2013, through October 16, 2013.⁹ Therefore, all deadlines in this segment of the proceeding were extended by 16 days. Further, because the new deadline in the instant review falls on a non-business day, in accordance with the Department's practice, the deadline will become the next business day.¹⁰ Therefore, the revised deadline for the final results of this review is December 26, 2013.

⁸ See Memorandum to Christian Marsh, “Citric Acid and Certain Citrate Salts from the People's Republic of China: Extension of Deadline for Final Results of Antidumping Duty Administrative Review” (August 6, 2013).

⁹ See Memorandum for the Record from Paul Piquado, Assistant Secretary for the Enforcement and Compliance, “Deadlines Affected by the Shutdown of the Federal Government” (October 18, 2013).

¹⁰ See e.g., Certain Cut-to-Length Carbon Steel Plate From the People's Republic of China: Final Results and Final No Shipments Determination of Antidumping Duty Administrative Review; 2011-2012, 78 FR 76279 (December 17, 2013).

Scope of the Order

The scope of the order includes the hydrous and anhydrous forms of citric acid, the dihydrate and anhydrous forms of sodium citrate, otherwise known as citric acid sodium salt, and the monohydrate and monopotassium forms of potassium citrate.¹¹ Sodium citrate also includes both trisodium citrate and monosodium citrate, which are also known as citric acid trisodium salt and citric acid monosodium salt, respectively. Citric acid and sodium citrate are classifiable under 2918.14.0000 and 2918.15.1000 of the Harmonized Tariff Schedule of the United States (“HTSUS”), respectively. Potassium citrate and crude calcium citrate are classifiable under 2918.15.5000 and 3824.90.9290 of the HTSUS, respectively. Blends that include citric acid, sodium citrate, and potassium citrate are classifiable under 3824.90.9290 of the HTSUS. Although the HTSUS subheadings are provided for convenience and customs purposes, the written description of the merchandise is dispositive.

¹¹ See Memorandum from Christian Marsh, Deputy Assistant Secretary for Antidumping and Countervailing Duty Operations to Paul Piquado, Assistant Secretary for Enforcement and Compliance “Citric Acid and Certain Citrate Salts from the People's Republic of China: Issues and Decision Memorandum for the Final Results of the 2011-2012 Antidumping Duty Administrative Review”, issued concurrently with this notice (“Issues and Decision Memorandum”) for a complete description of the scope of the Order.

Final Determination of No Shipments

For these final results of review, we continue to find that Yixing Union had no shipments during the POR.¹²

¹² See Preliminary Results, 78 FR at 34642.

Analysis of Comments Received

All issues raised in the case and rebuttal briefs by parties are addressed in the Issues and Decision Memorandum, which is hereby adopted by this Federal Register notice. A list of the issues which parties raised is attached to this notice as Appendix I. The Issues and Decision Memorandum is a public document and is on file in the Central Records Unit (“CRU”), Room 7046 of the main Department of Commerce building, as well as electronically via Enforcement and Compliance's Antidumping and Countervailing Duty Centralized Electronic Service System (“IA ACCESS”). IA ACCESS is available to registered users at http://iaaccess.trade.gov and in the CRU. In addition, a complete version of the Issues and Decision Memorandum can be accessed directly on the internet at http://enforcement.trade.gov/frn/. The signed Issues and Decision Memorandum and the electronic versions of the Issues and Decision Memorandum are identical in content.

Changes Since the Preliminary Results

Based on a review of the record and comments received from interested parties regarding our Preliminary Results, we have made no revisions to the margin calculations for RZBC I&E.

Separate Rates

In our Preliminary Results, we determined that RZBC I&E met the criteria for separate rate status.¹³ We have not received any information since the issuance of the Preliminary Results that provides a basis for reconsideration of this determination. Therefore, the Department continues to find that RZBC I&E meets the criteria for separate rate status.

¹³ See Preliminary Results, 78 FR at 34642, and accompanying Issues and Decision Memorandum at 4-6.

Final Results of the Review

The dumping margins for the POR are as follows:

Exporter | Weighted- average margin (percent)
RZBC Imp. & Exp. Co., Ltd. | 0.00

Assessment Rates

The Department will determine, and Customs and Border Protection (“CBP”) shall assess, antidumping duties on all appropriate entries covered by this review. The Department intends to issue assessment instructions to CBP 15 days after the publication date of these final results of this review. In accordance with 19 CFR 351.212(b)(1), we are calculating importer- (or customer-) specific assessment rates for the merchandise subject to this review. For any individually examined respondent whose weighted-average dumping margin is above de minimis (i.e., 0.50 percent), the Department will calculate importer-specific assessment rates on the basis of the ratio of the total amount of dumping calculated for the importer's examined sales and the total entered value of sales.¹⁴ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

¹⁴ See Antidumping Proceedings: Calculation of the Weighted-Average Dumping Margin and Assessment Rate in Certain Antidumping Proceedings: Final Modification, 77 FR 8101 (February 14, 2012).

The Department recently announced a refinement to its assessment practice in Non-Market Economy (“NME”) cases. Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate. For a full discussion of this practice, see Assessment in NME Antidumping Proceedings.¹⁵

¹⁵ See Non-Market Economy Antidumping Proceedings: Assessment of Antidumping Duties, 76 FR 65694 (October 24, 2011) (“Assessment in NME Antidumping Proceedings”).

Cash Deposit Requirements

The following cash deposit requirements will be effective upon publication of the final results of this administrative review for shipments of the subject merchandise from the PRC entered, or withdrawn from warehouse, for consumption on or after the publication date, as provided by section 751(a)(2)(C) of the Tariff Act of 1930, as amended (“the Act”): (1) For Yixing Union, which claimed no shipments, the cash deposit will remain unchanged from the rate assigned to Yixing Union in the most recently completed review of the company; (2) For RZBC I&E, because the rate is zero, no cash deposit will be required; (3) for previously investigated or reviewed PRC and non-PRC exporters that received a separate rate in a prior segment of this proceeding, the cash deposit rate will continue to be the existing exporter-specific rate; (4) for all PRC exporters of subject merchandise that have not been found to be entitled to a separate rate, the cash deposit rate will be that for the PRC-wide entity established in the final determination of the less than fair value investigation (i.e., 156.87 percent); and (5) for all non-PRC exporters of subject merchandise which have not received their own rate, the cash deposit rate will be the rate applicable to the PRC exporter that supplied that non-PRC exporter. These deposit requirements, when imposed, shall remain in effect until further notice.

Disclosure

We will disclose the calculations performed within five days of the date of publication of this notice to parties in this proceeding in accordance with 19 CFR 351.224(b).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Order

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(1) and 777(i) of the Act.

Dated: December 26, 2013.
Christian Marsh,
Deputy Assistant Secretary for Antidumping and Countervailing Duty Operations.

Appendix I—Issues and Decision Memorandum

General Issues

COMMENT 1: WATER SURROGATE VALUE

COMMENT 2: LIQUIDATION INSTRUCTIONS

COMMENT 3: NEW FACTUAL INFORMATION

COMMENT 4: PUBLIC VERSION

COMMENT 5: CO-PRODUCT VALUATION

COMMENT 6: REVOCATION FOR RZBC

[FR Doc. 2013-31410 Filed 12-31-13; 8:45 am]

BILLING CODE 3510-DS-P